DEPARMTENT OF ENERGY

Federal Energy Regulatory Commission

[Docket No. RP04-24-006]

Algonquin Gas Transmission Company; Notice of Refund Report

June 24, 2004.

Take notice that on June 18, 2004, Algonquin Gas Transmission Company (Algonquin) tendered for filing a refund report that describes the disbursement of refunds relating to service on Algonquin's Manchester Street and Brayton Point facilities between October 10, 2003, and March 1, 2004.

Algonquin states that these refunds are credited to customers, in compliance with the “Order Granting Motion to Withdraw Pleadings and Terminate Proceeding, and Accepting Tariff Revisions and Negotiated Rate Contracts, Subject to Conditions” issued by the Commission in the captioned docket on May 19, 2004 (107 FERC ¶ 61,173 (2004)).

Algonquin states that copies of its filing have been served on all affected customers of Algonquin and interested state commissions, as well as to all parties appearing on the Commission's official service list in this docket.

Any person desiring to protest said filing should file a protest with the Federal Energy Regulatory Commission, 888 First Street, NE., Washington, DC 20426, in accordance with section 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.
Protest Date: July 1, 2004.

[FR Doc. E4-1460 Filed 6-30-04; 8:45 am]

BILLING CODE 6717-01-P